DEPARTMENT OF HEALTH AND HUMAN SERVICES

National Institutes of Health

National Institute on Deafness and Other Communication Disorders, Amended Notice of Meeting

Notice is hereby given of a change in the meeting of the National Institute on Deafness and Other Communication Disorders Special Emphasis Panel, October 18, 2013, 2:00 p.m. to October 18, 2013, 3:30 p.m., National Institutes of Health, Neuroscience Center, 6001 Executive Boulevard, Rockville, MD 20852 which was published in the Federal Register on September 17, 2013, 78 FR 57167-57168.

The meeting will be held on October 23, 2013. The location and time remain the same. The meeting is closed to the public.

Dated: October 21, 2013.
Melanie J. Gray,
Program Analyst, Office of Federal Advisory Committee Policy.

[FR Doc. 2013-25038 Filed 10-24-13; 8:45 am]

BILLING CODE 4140-01-P